COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add services to the Procurement List that will be furnished by nonprofit agencies employing persons who are blind or have other severe disabilities.

DATES: Comments must be received on or before: June 14, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

The following services are proposed for addition to the Procurement List for production by the nonprofit agencies listed:

Services

Service Type: Base Supply Center

Mandatory for: New Mexico National Guard, Santa Fe, NM

Mandatory Source of Supply: Envision, Inc., Wichita, KS

Contracting Activity: Dept of the Army, W7NQ USPFO Activity NM ARNG

Service Type: Grounds Maintenance Service

Mandatory for: Defense Information Systems Agency, DISA Global, Building 5160, Scott AFB, IL

Mandatory Source of Supply: Challenge Unlimited, Inc., Alton, IL

Contracting Activity: Defense Information Systems Agency (DISA), IT Contracting Division—PL83

Service Type: Grounds Maintenance Service

Mandatory for: Defense Information Systems Agency, DITCO, Building 3600, Scott AFB, IL

Mandatory Source of Supply: Challenge Unlimited, Inc., Alton, IL

Contracting Activity: Defense Information Systems Agency (DISA), IT Contracting Division—PL83

Michael R. Jurkowski,
Deputy Director, Business & PL Operations.

[FR Doc. 2020-10442 Filed 5-14-20; 8:45 am]

BILLING CODE 6353-01-P